DEPARTMENT OF COMMERCE

International Trade Administration

[A-570-849]

Certain Cut-to-Length Carbon Steel Plate From the People's Republic of China: Notice of Rescission of Antidumping Duty Administrative Review

AGENCY: Import Administration, International Trade Administration, Department of Commerce.

DATES: Effective August 3, 2005.

FOR FURTHER INFORMATION CONTACT: Catherine Bertrand or Carrie Blozy, AD/CVD Operations, Office 9, Import Administration, International Trade Administration, U.S. Department of Commerce, 14th Street and Constitution Avenue, NW., Washington, DC 20230; telephone: (202) 482-3207, and (202) 482-5403 respectively.

SUMMARY: In response to a request by Beijing Shougang Xingang Co., Ltd., and Beijing Alliance of Xingang Science and Trade Co., Ltd., (collectively “Shougang”), an exporter of subject merchandise, the Department of Commerce (the “Department”) initiated an administrative review of the antidumping duty order on cut-to-length carbon steel plate (“CTL Plate”) from the People's Republic of China (“PRC”). No other interested party requested a review of Shougang. The period of review (“POR”) is November 3, 2003, through October 31, 2004. On July 5, 2005, Shougang withdrew its request for a review. The Department is now rescinding the administrative review of Shougang.

Background

On November 1, 2004, the Department published a notice of opportunity to request an administrative review of the antidumping duty order on CTL Plate from the PRC. See Antidumping or Countervailing Duty Order, Finding, or Suspended Investigation: Opportunity to Request Administrative Review, 69 FR 63359 (November 1, 2004). On November 29, 2004, Shougang requested an administrative review of its sales and shipments to the United States during the POR. On December 27, 2004, the Department published a notice of the initiation of the antidumping duty administrative review of CTL Plate from the PRC for the period November 3, 2003, through October 31, 2004. See Initiation of Antidumping and Countervailing Duty Administrative Reviews and Request for Revocation in Part, 69 FR 77181 (December 27, 2004). On July 5, 2005, Shougang withdrew its request for an administrative review.

Rescission of Review

The applicable regulation, 19 CFR 351.213(d)(1), states that if a party that requested an administrative review withdraws the request within 90 days of the publication of the notice of initiation of the requested review, the Secretary will rescind the review. It further states that the Secretary may extend this time limit if the Secretary finds it reasonable to do so. Shougang withdrew its request for review after the 90-day deadline; however, the Department finds it reasonable to extend the time limit by which a party may withdraw its request for review in the instant proceeding. The Department finds it reasonable to extend the withdrawal deadline because the Department has not yet devoted considerable time and resources to this review.¹ Shougang was the only party to request the review, and has withdrawn that request. Therefore, we are rescinding this review of the antidumping duty order on CTL Plate from the PRC covering the period November 3, 2003, through October 31, 2004. The Department will issue appropriate assessment instructions directly to U.S. Customs and Border Protection within 15 days of publication of this recession.

¹ After analyzing Shougang's questionnaire response, the Department issued a supplemental questionnaire to Shougang. Shougang did not respond to the supplemental questionnaire.

Notification to Interested Parties

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

This notice is issued and published in accordance with sections 751 and 777(i) of the Act and 19 CFR 351.213(d)(4).

Dated: July 27, 2005.
Barbara E. Tillman,
Acting Deputy Assistant Secretary for Import Administration.

[FR Doc. E5-4130 Filed 8-2-05; 8:45 am]

BILLING CODE 3510-DS-P